SMALL BUSINESS ADMINISTRATION

Revocation of License of Small Business Investment Company

Pursuant to the authority granted to the United States Small Business Administration by the Final Order of the United States District Court of the Southern District of New York, dated August 19, 2008, the United States Small Business Administration hereby revokes the license of Winfield Capital Corp., a New York Corporation, to function as a small business investment company under the Small Business Investment Company License No. 02/02-0292 issues to Winfield Capital Corp. on April 19, 1972 and said license is hereby declared null and void as of August 19, 2008.

United States Small Business Administration
Dated: February 12, 2009.
Harry E. Haskins,
Deputy Associate Administrator for Investment.

MEMORANDUM

Date: February 2, 2009.

To: Jacqueline K. White, Chief, Administration Information Branch.

From: Deputy Associate Administrator for Investment.

Subject: Publication of License Surrender.Winfield Capital Corp. License #02/02-0292

Enclosed are the original, five hard copies, and a computer disk copy of the Notice of License Surrender of a Small Business Investment Company License. I certify that the hard copy and the disk copy match.

Please have the attached Notice of Surrender of a Small Business Investment Company License published in the Federal Register and return one copy for our office records.

If you have any questions about this Federal Register Notice request, please contact Terry George at 202-619-0504.

Thank you in advance for your cooperation.

Harry E. Haskins,

Deputy Associate Administrator for Investment.

Attachment: 5 copies and 1 disk.

Legal

Date

[FR Doc. E9-3882 Filed 2-23-09; 8:45 am]

BILLING CODE 8025-01-P